DEPARTMENT OF THE INTERIOR

Bureau of Land Management

[OR-957-00-1420-BJ: GP01-0133]

Filing of Plats of Survey: Oregon/Washington

AGENCY: Bureau of Land Management, Interior.

ACTION: Notice.

SUMMARY: The plats of survey of the following described lands were officially filed in the Oregon State Office, Portland, Oregon, on March 12, 2001.

Willamette Meridian

Oregon

T. 33 S., R. 32 E., accepted February 6, 2001

T. 35 S., R. 32 E., accepted February 6, 2001

T. 37 S., R. 32½ E., accepted February 6, 2001

T. 37 S., R. 32¾ E., accepted February 6, 2001

Copies of the plat(s) may be obtained from the Oregon State Office, Bureau of Land Management, 1515 S.W. 5th Avenue, Portland, Oregon 97201, upon required payment. A person or party who wishes to protest against a survey must filed with the State Director, Bureau of Land Management, Portland, Oregon, a notice that they wish to protest.

The above-listed plats represent dependent resurveys, survey, and subdivision.

FOR FURTHER INFORMATION CONTACT: Bureau of Land Management, (1515 S.W. 5th Avenue) P.O. Box 2965, Portland, Oregon 97208.

Dated: March 13, 2001.
Robert D. DeViney, Jr.,
Branch of Realty and Records Services.

[FR Doc. 01-7801 Filed 3-28-01; 8:45 am]

BILLING CODE 4310-33-M